DEPARTMENT OF TRANSPORTATION

Office of the Secretary

Notice of Applications for Certificates of Public Convenience and Necessity and Foreign Air Carrier Permits Filed Under Subpart B (Formerly Subpart Q) During the Week Ending April 18, 2003

The following Applications for Certificates of Public Convenience and Necessity and Foreign Air Carrier Permits were filed under subpart B (formerly subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2003-14985.

Date Filed: April 18, 2003.

Due Date for Answers, Conforming Applications, or Motion to Modify Scope: May 9, 2003.

Description: Application of Boston-Maine Airways Corp., d/b/a Pan Am Clipper Connection (“BMAC”), pursuant to 49 U.S.C. 41102 and subpart B, requesting issuance of a new certificate of public convenience and necessity, and related fitness determination, authorizing BMAC to engage in foreign scheduled passenger operations utilizing 141-passenger B-727-200 aircraft in various foreign city-pair markets, both in conjunction with the interstate and foreign scheduled service operations of its sister carrier, Pan Am, and as separate stand-alone operations.

Docket Number: OST-2003-14991.

Date Filed: April 18, 2003.

Due Date for Answers, Conforming Applications, or Motion to Modify Scope: May 9, 2003.

Description: Application of World Airways, Inc., pursuant to 49 U.S.C. 41101(a), 41102(a) and subpart B, requesting a new or amended certificate of public convenience and necessity for scheduled foreign air transportation of persons, property, and mail and all-cargo from a point or points in the United States and intermediate points to a point or points in Iraq.

Docket Number: OST-2003-14992.

Date Filed: April 18, 2003.

Due Date for Answers, Conforming Applications, or Motion to Modify Scope: May 9, 2003.

Description: Application of North American Airlines, Inc., pursuant to 49 U.S.C. 41101(a), 41102(a), and subpart B, requesting a new or amended certificate of public convenience and necessity for scheduled foreign air transportation of persons, property, and mail from a point or points in the United States and Intermediate points to: (1) A point or points in Switzerland and beyond; (2) Kabul, Afghanistan; (3) a point or points in Iraq; and, (4) Kuwait City, Kuwait.

Dorothy Y. Beard,
Chief, Docket Operations & Media Management, Federal Register Liaison.

[FR Doc. 03-10693 Filed 4-30-03; 8:45 am]

BILLING CODE 4910-62-P